DEPARTMENT OF DEFENSE

Department of the Army

[Docket ID: USA-2015-0019]

Proposed Collection; Comment Request

AGENCY: Deputy Chief of Staff, G-1, Technology and Business Architecture Integration Directorate, Army Library Program, DoD.

ACTION: Notice.

SUMMARY: In compliance with the Paperwork Reduction Act of 1995, the Deputy Chief of Staff, G-1, Technology and Business Architecture Integration Directorate, Army Library Program announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 15, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Deputy Chief of Staff, G-1, Technology and Business Architecture Integration Directorate, ATTN: DAPE-TBL, 300 Army Pentagon, Washington, DC 20310-0300; or call Army Library Program at 703-695-5401.

SUPPLEMENTARY INFORMATION: Title; Associated Form; and OMB Number: Library Borrowers'/Users' Profile Files; General Library Information System Registration Form DA Form 7745; OMB Control Number: 0702-XXXX.

Needs and Uses: The information collection requirement is necessary to identify individuals authorized to borrow library materials from Army libraries; to ensure that all Army library property is returned and individual's account is cleared, and to provide librarian useful information for selecting, ordering, and meeting user requirements; to comply with the Children's Internet Protection Act and to provide authentication for borrowed electronic resources (for example, e-books, e-journals).

Affected Public: Individuals or Households and Federal Government.

Annual Burden Hours: 9,750.

Number of Respondents: 39,000.

Responses per Respondent: 1.

Annual Responses: 39,000.

Average Burden per Response: 15 minutes.

Frequency: One Time.

Respondents are Army Family members, Army retirees, DoD civilians, DoD Contractors and authorized DoD personnel who register at Army installation's Morale, Welfare and Recreation (MWR) libraries or other Army libraries in order to check out print, audio-visual, and/or electronic materials. Army MWR libraries collect name, address, phone number, DoD ID number, rank, date of birth, and email address in order to identify individuals authorized to borrow library materials, to ensure that all library property is returned, and the individual's account is cleared. As there are over 500,000 registered borrowers/users in the MWR General Library Information System (GLIS), several identifiers are needed to match the record with the person requesting service. During registration, library borrowers agree to be responsible for replacement or reimbursement for lost or damaged materials borrowed by themselves or authorized Family members using DA Form 7745. If the responsible party does not replace or reimburse the library, AR 735-17 authorizes the library to collect the cost of the item. For service members, the Defense Finance and Accounting Services (DFAS) requires at least the last four numbers of the social security number to collect the debt. Other Army libraries collect less types of personal information for the borrower/user profile such as no SSN or no DoD ID.

Dated: June 8, 2016.
Aaron Siegel,
Alternate OSD Federal Register Liaison Officer, Department of Defense.

[FR Doc. 2016-13979 Filed 6-13-16; 8:45 am]

BILLING CODE 5001-06-P